SOCIAL SECURITY ADMINISTRATION

[Docket No. SSA 2010-0034]

Privacy Act of 1974, as Amended; Computer Matching Program (SSA/Bureau of the Public Debt (BPD))—Match Number 1304

AGENCY: Social Security Administration (SSA) .

ACTION: Notice of a renewal of an existing computer matching program that will expire on March 31, 2011.

SUMMARY: In accordance with the provisions of the Privacy Act, as amended, this notice announces a renewal of an existing computer matching program that we are currently conducting with BPD.

DATES: We will file a report of the subject matching program with the Committee on Homeland Security and Governmental Affairs of the Senate; the Committee on Oversight and Government Reform of the House of Representatives, and the Office of Information and Regulatory Affairs, Office of Management and Budget (OMB). The matching program will be effective as indicated below.

ADDRESSES: Interested parties may comment on this notice by either telefaxing to (410) 966-0869 or writing to the Executive Director, Office of Privacy and Disclosure, Office of the General Counsel, 617 Altmeyer Building, 6401 Security Boulevard, Baltimore, MD 21235-6401. All comments received will be available for public inspection at this address.

FOR FURTHER INFORMATION CONTACT: The Executive Director, Office of Privacy and Disclosure, Office of the General Counsel as shown above.

SUPPLEMENTARY INFORMATION:

A. General

The Computer Matching and Privacy Protection Act of 1988 (Public Law (Pub. L.) 100-503), amended the Privacy Act (5 U.S.C. 552a) by describing the conditions under which computer matching involving the Federal government could be performed and adding certain protections for persons applying for, and receiving, Federal benefits. Section 7201 of the Omnibus Budget Reconciliation Act of 1990 (Pub. L. 101-508) further amended the Privacy Act regarding protections for such persons.

The Privacy Act, as amended, regulates the use of computer matching by Federal agencies when records in a system of records are matched with other Federal, State, or local government records. It requires Federal agencies involved in computer matching programs to:

(1) Negotiate written agreements with the other agency or agencies participating in the matching programs;

(2) Obtain the approval of the matching agreement by the Data Integrity Boards (DIB) of the participating Federal agencies;

(3) Publish notice of the computer matching program in the Federal Register (FR);

(4) Furnish detailed reports about matching programs to Congress and OMB;

(5) Notify applicants and beneficiaries that their records are subject to matching; and

(6) Verify match findings before reducing, suspending, terminating, or denying a person's benefits or payments.

B. SSA Computer Matches Subject to the Privacy Act

We have taken action to ensure that all of our computer matching programs comply with the requirements of the Privacy Act, as amended.

Dawn S. Wiggins,
Acting Executive Director, Office of Privacy and Disclosure.

Office of the General Counsel

Notice of Computer Matching Program, SSA With the Bureau of the Public Debt (BPD)

A. Participating Agencies

SSA and BPD.

B. Purpose of the Matching Program

The purpose of this matching program is to set forth the conditions, terms, and safeguards under which BPD will disclose ownership of Savings Securities to us. This disclosure will provide us with information necessary to verify an individual's self-certification of his/her financial status to determine eligibility for low income subsidy assistance in the Medicare Part D prescription drug benefit program established under the Medicare Prescription Drug, Improvement, and Modernization Act of 2003 (Pub. L. 108-173).

C. Authority for Conducting the Matching Program

Section 1860D-14 of the Social Security Act (42 U.S.C. 1395w-114) requires the Commissioner of SSA to verify the eligibility of an individual who seeks to be considered as a low-income subsidy eligible individual under the Medicare Part D prescription drug benefit program and who self-certifies his/her income, resources, and family size.

D. Categories of Records and Persons Covered by the Matching Program

1. Systems of Records

We will provide BPD with a finder file containing social security numbers (SSNs) extracted from the Medicare database. BPD will match the SSNs in the finder file with the SSNs in its Savings Securities registration systems. These records are included under the systems of records Treasury/BPD.002, United States Savings-Type Securities, and Treasury/BPD.008, Retail Treasury Securities Access Application, last published on June 10, 2005 at 70 FR 33942 and 33952, respectively.

We will then match the BPD data with a comparison file compiled of records from our expanded Medicare Database (MDB) File system of records in order to support our administration of the prescription drug subsidy program. The MDB File system of records notice (No.60-0321) was published at 69 FR 77816 on December 28, 2004 and 71 FR 42159-42164 on July 25, 2006. The MDB File is a repository of Medicare applicant and beneficiary information, which collects and maintains information related to Medicare Parts A and B, Medicare Advantage Part C, and Medicare Part D.

2. Number of Records

The number of records matched each year is determined in part by the number of people who file for subsidy for Part D. BPD will perform the automated matching with its computer systems and provide the response file to us as soon as possible. This agreement covers the following matches:

a. Screening for Potential Recipients

This screening will involve an ongoing weekly match with file sizes varying from 13,000 to 140,000 records containing potential applicants and those recipients who notify us of a change.

b. Screening To Confirm Eligibility

To confirm eligibility of individuals receiving Medicare Part D subsidies, an ongoing yearly match of approximately two million recipients each year will be performed.

3. Specified Data Elements for Definitive Records

a. We will furnish BPD with the SSN for each individual for whom Savings Securities registration information is being requested.

b. When a match occurs on an SSN, BPD will disclose the following: The denomination of the security, the serial number, the series, the issue date of the security, the current redemption value, and the return date of the finder file.

4. Specified Data Elements for Book Entry Records

a. We will furnish BPD with the SSN for each individual for whom Savings Securities registration information is being requested.

b. When a match occurs on an SSN, BPD will disclose the following: the purchase amount, the account number and confirmation number, the series, the issue date of the security, the current redemption value, and the return date of the finder file.

E. Inclusive Dates of the Matching Program

The effective date of this matching program is April 1, 2011; provided that the following notice periods have lapsed: 30 days after publication of this notice in the FR and 40 days after notice of the matching program is sent to Congress and OMB. The matching program will continue for 18 months from the effective date and may be extended for an additional 12 months thereafter, if certain conditions are met.

[FR Doc. 2011-5016 Filed 3-4-11; 8:45 am]

BILLING CODE 4191-02-P